DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 21, 2026 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program: Reporting of Lottery and Gambling, and Resource Verification.

OMB Control Number: 0584-0621.

Summary of Collection: In accordance with section 4009 of the Agricultural Act of 2014, households in which members receive substantial lottery and gambling winnings are ineligible for SNAP until they meet allowable financial resources and income eligibility requirements. Substantial winnings are defined as winnings that are equal to or greater than the resource limit for elderly or disabled households as defined in 7 CFR 273.8(b). States are also required to work cooperatively with entities responsible for gaming in their State to identify individuals or households with substantial winnings. SNAP individuals or households must report substantial winnings to State SNAP agencies.

Need and Use of the Information: State SNAP agencies are required, to the maximum extent practicable, to establish cooperative agreements with gaming entities within the State to identify SNAP recipients with substantial winnings. Gaming entities (both State public agency and private business gaming entities) that entered into the cooperative agreements share information with the State SNAP agency on individuals within their gaming establishment who win significant amounts. The regulations define significant amount as being equal to or greater than the maximum allowable resource limit for all elderly and disabled SNAP households, as outlined in 7 CFR 273.8(b)(1). State SNAP agencies must also require SNAP households to report substantial lottery and gambling winnings. State SNAP agencies use the information on substantial winnings collected through these cooperative agreements and through household reporting to assess whether SNAP households are no longer eligible for benefits.

State SNAP agencies that collect information from households concerning their available resources use this information to determine whether households meet the SNAP resource limit for program eligibility. All States must verify this information if questionable, and some States elect to verify this information in other circumstances as well.

Description of Respondents: State, Local, or Tribal Government, Individuals/Households, and Businesses.

Number of Respondents: 1,878,674.

Frequency of Responses: Reporting: On Occasion.

Total Burden Hours: 1,172,184.66.

Levi S. Harrell,
Departmental Information Collection Clearance Officer.

[FR Doc. 2025-23631 Filed 12-19-25; 8:45 am]

BILLING CODE 3410-30-P